DEPARTMENT OF AGRICULTURE

Forest Service

Stillwater Mining Company's Boe Ranch LAD Alternative, Removing Production Cap, and Post-Closure Water Treatment, Stillwater County and Sweet Grass County, MT

AGENCY: Forest Service, USDA.

ACTION: Notice: intent to prepare an environmental impact statement.

SUMMARY: The Forest Service proposes to amend Stillwater Mining Company's (SMC) Plan of Operation pertaining to production limits and water treatment methods. Briefly, SMC is requesting Forest Service and State approval to: (1) Construct a land application system (LAD) for treated mine water coming from the East Boulder Mine to its Boe Ranch property, approximately seven miles to the north; (2) remove the production cap for the East Boulder Mine; and, (3) develop a post-closure water treatment plan for adit water and tailings impoundment water that would be discharged into the East Boulder River and Mountain View creek using structures and conveyances, and percolation ponds to discharge into groundwater.

The Forest Supervisors have the authority for regulating all activities and uses of National Forest System lands. The Cluster National Forest Supervisor and the Gallatin National Forest Supervisor will decide whether to approve Stillwater Mining Company's amendment to their approval Plan of Operations, as detailed in the Proposed Actions, or whether to approve an alternative to the Proposed Actions. The Forest Supervisors also have the ability to prescribe mitigation measures as conditions of approval.

The areas involved in these proposals include: federal land administered by the Gallatin National Forest and Montana Department of Environmental Quality for the East Boulder Mine and Custer National Forest and Montana Department of Environmental Quality for the Stillwater Mine; State Land, administered by the Montana Department of Natural Resources and Conservation; private land, administered by the Montana Department of Environmental Quality for the Boe Ranch property. Thus, the USDA, Forest Service, as a cooperating agency with the Montana Departments of Environmental Quality and Natural Resources and Conservation will participate in the preparation of an environmental impact statement (EIS).

The EIS will disclose the environmental effects of the proposed actions. The Stillwater Mining Company has submitted the following proposals to the Forest Service and the Montana Department of Environmental Quality and Montana Department of Natural Resources and Conservation:

—Construction of a new road for access from the East Boulder Road to the Boe Ranch LAD site. The adit water would be stored on the Boe Ranch LAD site in a constructed storage pond before being applied using one of three different disposal methods: (1) Distribution through a center pivot irrigation system; or, (2) using enhanced evaporation sprayers around the storage pond; or, (3) using snow makers upstream of the storage pond.

—Removal of the ore production cap of 2,000 tons of ore per day at the East Boulder Mine.

—Development of a post-closure water treatment plan for the East Boulder and Stillwater Mines that will describes how mine water will be managed until it meets non-degradation standards and can then be either percolated to groundwater or conveyed and discharged into the East Boulder River and Mountain View creek.

The Directors of the Montana Department of Environmental Quality and Montana Department of Natural Resources and Conservation, the Gallatin National Forest Supervisor, and the Custer National Forest Supervisor are the officials responsible for approving these proposals.

DATES: A public meeting will be held in Absarokee, MT on July 18, 2001 and in Big Timber, MT on July 19, 2001 in order to identify issues to be addressed in this environmental analysis. Written comments concerning the scope of these proposals must be received by August 20, 2001.

ADDRESSES: Written comments concerning this analysis should be sent to: Patrick Plantenberg, Department of Environmental Quality, Environmental Management Bureau, PO Box 200901, Helena, MT 59620-0901, FAX (406) 444-1374; and/or Pat Pierson, Beartooth Ranger District, HC49, Box 3420, Red Lodge, MT 59068; and/or Lars Halstrom, Big Timber Ranger District, PO Box 1130, Big Timber, MT 59011.

FOR FURTHER INFORMATION CONTACT: Questions about the proposed action and EIS should be directed to Patrick Plantenberg. MT-DEQ, (406) 444-4960; and/or Pat Pierson, Beartooth Ranger District (406) 446-2103; and/or Lars Halstrom, Big Timber Ranger District, (406) 932-5155.

SUPPLEMENTARY INFORMATION:

Purpose and Need for Action

Stillwater Mining Company's Water Management Plan was approved on June 28, 1998 for land application disposal (LAD) of treated mine waters on Gallatin National Forest lands. SMC's new proposal would transport treated mine water through a pipeline in the East Boulder Road from the East Boulder Mine to their Boe Ranch property, approximately seven miles to the north. SMC believes the new location would better suite for a LAD system because of its windier, drier, and warmer environment that would increase evaporation of the treated mine water through an irrigation system and through evapotranspiration of rangeland plants. The purpose of this action is to provide additional operating flexibility, optimize treatment and disposal options, and allow mine water to be beneficially used in an agricultural setting.

Removal of the production cap at the East Boulder Mine is also proposed. SMC's current permitted production cap is 2,000 tons of ore per day. SMC argues that removal of the production cap would have no environmental impact to other surface resources. The East Boulder Mine's production would still be controlled by other permit constraints and requirements for air quality, water quality, water treatment capacity, and impoundment size. An increase in production would trigger changes in employment, etc. This would trigger a change to the Hard Rock Impact Plan, which would have to be approved before the action could be put into place. The purpose of this action is to allow SMC flexibility in production as changes occur in the market and grade of the ore encountered.

Previous Environmental Analyses for Stillwater's Nye operation have analyzed and approved operational water management plans during the life of the mine. However, long-term, post-mine closure water management has not been previously considered. When post-closure audit discharge water no longer requires treatment in order to meet water quality non-degradation standards, it is proposed that audit water will be discharged into the East Boulder River and Mountain View Creek through the use of structures and conveyances and tailings impoundment water be discharged to groundwater through percolation ponds.

SMC has submitted proposals to amend its plan of operations in accordance with Federal and State regulations. The General Mining Law of 1872 grants all U.S. citizens the right to explore, develop, and produce mineral resources on Federal lands open to mineral entry. SMC currently operates the only economically viable platinum/palladium mine in the western hemisphere and accounts for five percent of world production. Thirty-five percent of U.S. consumption of platinum/palladium is accounted for by the automotive industry in catalytic converters, required as a result of the Clean Air Act of 1990; 32 percent by electronics; nine percent is used for medical/dental purposes; six percent by the chemical industry; and 18 percent is used for a variety of purposes, based on their chemical inertness and refractory properties (USDI, 1991).

The purpose of this environmental analysis is to disclose the environmental effects of Stillwater Mining Company's proposals described above, and, cumulative effects of other potential activities within the Stillwater Complex will be considered in this analysis

Forest Plan Direction

The proposals are within two National Forests, Montana State land and private land. The applicable direction of each Forest Plan is as follows.

Custer National Forest

The area involved in the post-closure water treatment proposal for the Stillwater Mine is within Management Area E as described in the Custer National Forest Land and Resource Management Plan (1986). The management goal for Management Area E is:

“To facilitate and encourage the exploration, development, and production of energy and mineral resources from the National Forest System lands. Other resources will be considered, and impacts will be mitigated to the extent possible through standard operating procedures and, on a limited basis, through special lease stipulations necessary to manage key surface resources. Energy/mineral development will not be precluded by these resource concerns within legal constraints. Efforts will be made to avoid or mitigate resources conflicts. If the responsible official determines that conflicts cannot be adequately mitigated, she/he will resolve the conflict in accordance with the management goal and, if necessary, in consultation with affected parties.” (Forest Plan, pg. 58)

Gallatin National Forest

The area involved in the post-closure water treatment proposal and the lifting of the production cap at the East Boulder Miner lies within Management Areas 8 and 12 as described in the Gallatin National Forest Land and Resource Management Plan (1987). The management goals for minerals in Management Areas 8 and 12 are to:

“Provide for orderly and environmentally acceptable exploration and development of minerals, oils and gas, and geothermal resources.” (Forest Plan, pg. II-1) “Forest-wide standards established for these proposals will be monitored for compliance with approved operating plans and management area direction.” (Forest Plan, p. II-24, 11,a,5) “Meet State water quality standards and maintain channel stability.” (Forest Plan, pg. III-24, 4.)

State and Private Lands

The Boe Ranch LAD proposal is located on SMC's ranch property and Montana State land under the jurisdiction of State laws and regulations for land management decisions.

Preliminary Issues

The Forest Service and Department of Environmental Quality and Department of Natural Resources and Conservation Interdisciplinary Team (IDT) have preliminarily identified two potential issues to consider in the environmental analysis. These issues have been identified due to the possibility that the existing environmental conditions may change as a result of the proposed activities. The potential issues include long-term surface and groundwater quality and long-term surface and groundwater quantity. Aspects related to these issues that likely will be considered in the analysis are: operation and maintenance of the long-term water management system; effectiveness of long-term water treatment; management and monitoring systems (including LAD) to avoid violations of water quality standards; modifications to existing Montana Pollution Discharge Elimination Systems (MPDES) at the Nye and East Boulder sites; long-term discharge from tailings impoundment under drains and from tailing impoundment caps; length of required long-term treatment to meet water quality standards; maintenance of water system pipelines at the Hertzler and Boe Ranch sites; and, effects (e.g., shorter mine life, employment level changes, Hard Rock Impact Plan amendment, and impoundment Stages 2 thru 5 construction schedule) of lifting the production cap at the East Boulder site.

Preliminary Alternatives

—No Action

—Proposed Action

—An alternative to the Boe Ranch proposal would be use of the permitted proposals for water treatment entirely on the Gallatin National Forest as originally planned and leaving the production cap at 2,000 tons of ore per day.

—Proposed Action with Appropriate Mitigation

EIS Availability

The draft environmental impact statement (DEIS) is expected to be available for public review by mid-February 2002. After a 45-day public comment period, the comments received will be analyzed and considered by the Forest Service and Montana Department of Environmental Quality and Montana Department of Natural Resources and Conservation during the preparation of the final environmental impact statement (FEIS). The FEIS is scheduled to be completed by the end of May 2002. The regulatory agencies will respond to the comments received in the FEIS.The Custer National Forest Supervisor, the Gallatin National Forest Supervisor, and the Directors of the Montana Department of Environmental Quality and the Montana Department of Natural Resources and Conservation are the responsible officials for the EIS and will make decisions regarding this proposal considering the comments and responses, environmental consequences discussed in the DEIS, and applicable laws, regulations, and policies. The decision and reasons for the decision will be documented in a Record of Decision.

The comment period on the draft environmental impact statement will be 45 days from the date the Environmental Protection Agency publishes the notice of availability in the Federal Register.

The Forest Service believes it is important to give reviewers notice at this early stage of several court rulings related to public participation in the environmental review process. First, commenters and reviewers of environmental impact statements must structure their participation in the environmental review of the proposal so that it is meaningful and alerts the agencies to the reviewers' positions and contentions. Vermont Yankee Nuclear Power Corp. v. NRDC, 435U.S. 519,553 (1978). Also, environmental objections that could be raised at the draft environmental impact statement stage but that are not raised until after completion of the final environmental impact statement may be waived or dismissed by the courts. Wisconsin Heritages, Inc, v. Harris, 490 F.Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the national Environmental Policy Act at 40 CFR 1503.3 in addressing these points.

Dated: May 30, 2001.
Nancy T. Curriden,
Forest Supervisor, Custer National Forest.
Dated: June 1, 2001.
Rich Inman,
Acting Forest Supervisor, Gallatin National Forest.

[FR Doc. 01-18754 Filed 7-26-01; 8:45 am]

BILLING CODE 3410-11-M